NUCLEAR REGULATORY COMMISSION

[Docket Nos. 50-445-LR and 50-446-LR; ASLBP No. 23-978-01-LR-BD01]

Establishment of Atomic Safety and Licensing Board; Vistra Operations Company LLC

Pursuant to the Commission's regulations, see, e.g., 10 CFR 2.104, 2.105, 2.300, 2.309, 2.313, 2.318, 2.321, notice is hereby given that an Atomic Safety and Licensing Board (Board) is being established to preside over the following proceeding:

Vistra Operations Company LLC, (Comanche Peak Nuclear Power Plant, Units 1 and 2)

This proceeding involves an application seeking a twenty-year license renewal of Facility Operating License Nos. NPF-87 and NPF-89, which currently authorize Vistra Operations Company LLC to operate Comanche Peak Nuclear Power Plant, Units 1 and 2, until, respectively, February 8, 2030, and February 2, 2033. In response to a notice published in the Federal Register announcing the opportunity to request a hearing, see 87 FR 73,798 (Dec. 1, 2022), a hearing request was filed on January 30, 2023, on behalf of the Citizens for Fair Utility Regulation.

The Board is comprised of the following Administrative Judges:

G. Paul Bollwerk, III, Chairman, Atomic Safety and Licensing Board Panel, U.S. Nuclear Regulatory Commission, Washington, DC 20555-0001

Dr. Sue H. Abreu, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Dated: February 7, 2023.
Edward R. Hawkens,
Chief Administrative Judge, Atomic Safety and Licensing Board Panel.

[FR Doc. 2023-03082 Filed 2-13-23; 8:45 am]

BILLING CODE 7590-01-P